DEPARTMENT OF AGRICULTURE

Food Safety and Inspection Service

[Docket No. 04-048N]

Codex Alimentarius Commission: Thirty-third Session of the Codex Committee on Food Labelling

AGENCY: Food Safety and Inspection Service, USDA.

ACTION: Notice of public meeting, request for comments.

SUMMARY: The Office of the Under Secretary for Food Safety, United States Department of Agriculture (USDA), and the Food and Drug Administration (FDA), United States Department of Health and Human Services, are sponsoring a public meeting on January 19, 2005, to provide information and receive public comments on certain agenda items that will be discussed at the Thirty-third Session of the Codex Committee on Food Labelling (CCFL) of the Codex Alimentarius Commission (Codex). The 33rd Session of the CCFL will be held in Kota Kinabalu, Malaysia, May 9-13, 2005. The Under Secretary and FDA recognize the importance of providing interested parties the opportunity to obtain background information on the agenda items that will be discussed at this forthcoming session of the CCFL.

DATES: The public meeting is scheduled for Wednesday, January 19, 2005 from 1 p.m. to 4 p.m.

ADDRESSES: The public meeting will be held in the Auditorium (Room 1A-003), Harvey W. Wiley Federal Building, 5100 Paint Branch Parkway, College Park, MD. Documents related to the 33rd Session of the CCFL will be accessible via the World Wide Web at the following address: http://www.codexalimentarius.net/current.asp.

FSIS invites interested persons to submit comments on this notice. Comments may be submitted by any of the following methods:

• Mail, including floppy disks or CD-ROMs, and hand- or courier-delivered items: Send to the FSIS Docket Clerk, U.S. Department of Agriculture, Food Safety and Inspection Service, 300 12th Street, SW., Room 102, Cotton Annex, Washington DC 20730. All comments received must include the Agency name and docket number 04-048N.

All comments submitted in response to this notice, will be available for public inspection in the FSIS Docket Room at the address listed above between 8:30 a.m. and 4:30 p.m., Monday through Friday. The comments also will be posted on the Agency's Web site at http://www.fsis.usda.gov/regulations/2004_Notices_Index/index.asp

Participation by Conference Call: A call-in number has been arranged: 1-877-322-9654, participant code 920770.

FOR FURTHER INFORMATION ABOUT THE 33RD SESSION OF THE CCFL CONTACT: U.S. Delegate, Leslye Fraser, J.D. Director, Office of Regulations and Policy, Center for Food Safety and Applied Nutrition, FDA. 5100 Paint Branch Parkway (HFS-004), College Park, MD 20740. Phone: (301) 436-2378 Fax: (301) 436-2637, E-mail: leslye.fraser@fda.hhs.gov.

FOR FURTHER INFORMATION ABOUT THE PUBLIC MEETING CONTACT: Ellen Matten, International Issues Analyst, U.S. Codex Office, FSIS, Room 4861, South Building, 1400 Independence Avenue SW., Washington, DC 20250-3700, Phone: (202) 205-7760, Fax: (202) 720-3157.

SUPPLEMENTARY INFORMATION:

Background

The Codex Alimentarius Commission (Codex) was established in 1962 by two United Nations organizations, the Food and Agriculture Organization (FAO) and the World Health Organization (WHO). Codex is the major international standard-setting organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex Committee on Food Labelling (CCFL) drafts provisions on labelling applicable to all foods; considers, amends if necessary, and endorses specific provisions on labelling of draft standards, codes of practice, and guidelines prepared by other Codex committees; studies specific labelling problems assigned to it by the Commission; and studies problems associated with the advertisement of food with particular reference to claims and misleading descriptions. The Committee is chaired by Canada.

Issues To Be Discussed at the Public Meeting

The following items on the agenda for the 33rd Session of CCFL will be discussed during the public meeting:

1. Proposed Draft Guidelines for the Labelling of Foods Obtained Through Certain Techniques of Genetic Modification/Genetic Engineering: Labelling Provisions and Definitions.

2. Country of Origin Labelling: Response to CL 2004/56-FL.

3. Discussion Paper on Advertising: Response to CL 2004/54-FL.

4. Proposed Draft Amendment to the General Standard for the Labelling of Prepackaged Foods (Quantitative Ingredient Declaration).

Each issue listed will be fully described in documents distributed, or to be distributed, by the Canadian Secretariat to the Meeting. Members of the public may access copies of these documents (see ADDRESSES).

Public Meeting

At the January 19, 2005 public meeting, these agenda items will be described, discussed, and attendees will have the opportunity to pose questions and offer comments. Written comments may be offered at the meeting or sent to the U.S. Delegate, for the 33rd Session of the CCFL, Leslye Fraser (See Addresses). Written comments should state that they relate to activities of the 33rd Session of the CCFL.

Additional Public Information

Public awareness of all segments of rulemaking and policy development is important. Consequently, in an effort to ensure that the public and in particular minorities, women, and persons with disabilities are aware of this notice, FSIS will announce it on-line through the FSIS Web page located at http://www.fsis.usda.gov/regulations/2004_Notices_Index/index.asp.

FSIS also will make copies of this Federal Register publication available through the FSIS Constituent Update, which is used to provide information regarding FSIS policies, procedures, regulations, Federal Register notices, FSIS public meeting, recalls, and other types of information that could affect or would be of interest to our constituents and stakeholders. The update is communicated via Listserv, a free e-mail subscription service consisting of industry, trade, and farm groups, consumer interest groups, allied health professionals, scientific professionals, and other individuals who have requested to be included. The update is available on the FSIS Web page. Through Listserv and the Web page, FSIS is able to provide information to a much broader, more diverse audience.

Done at Washington, DC, on December 23, 2004.
F. Edward Scarbrough,
U.S. Manager for Codex Alimentarius.

[FR Doc. 04-28465 Filed 12-28-04; 8:45 am]

BILLING CODE 3410-DM-P